DEPARTMENT OF TRANSPORTATION

Federal Highway Administration

Notice of Final Federal Agency Actions on Proposed Highway in Utah

AGENCY: Federal Highway Administration (FHWA), Department of Transportation, Utah Department of Transportation (UDOT).

ACTION: Notice of limitations on claims for judicial review of actions by UDOT and other Federal agencies.

SUMMARY: The FHWA, on behalf of UDOT, is issuing this notice to announce actions taken by UDOT that are final Federal agency actions. The final agency actions relate to a proposed highway project, improvements to Washington Parkway, from North Green Springs Drive to Interstate 15 (I-15) in Washington City, Washington County, State of Utah. Those actions grant licenses, permits and/or approvals for the project.

DATES: By this notice, FHWA, on behalf of UDOT, is advising the public of final agency actions subject to 23 U.S.C. 139(l)(1). A claim seeking judicial review of the Federal agency actions on the highway project will be barred unless the claim is filed on or before February 20, 2020. If the Federal law that authorizes judicial review of a claim provides a time period of less than 150 days for filing such claim, then that shorter time period still applies.

FOR FURTHER INFORMATION CONTACT: Eric Hansen, Region 4 Environmental Manager, UDOT Region 4; 210 West 800 South; Richfield, Utah 84701; (435) 772-6628; email: erichansen@utah.gov. UDOT's normal business hours are 8 a.m. to 5 p.m. (Mountain Time Zone), Monday through Friday, except State and Federal holidays.

SUPPLEMENTARY INFORMATION: Effective July 1, 2008 and renewed on July 1, 2011, June 30, 2014, and June 23, 2017, FHWA assigned, and UDOT assumed, certain responsibilities of FHWA for environmental review, consultation, and other actions required by applicable Federal environmental laws and regulations for highway projects in Utah, pursuant to 23 U.S.C. 326. Actions taken by UDOT on FHWA's behalf pursuant to 23 U.S.C. 326 constitute Federal agency actions for purposes of Federal law. Notice is hereby given that UDOT has taken final agency actions subject to 23 U.S.C. 139(l)(1) by issuing licenses, permits, and approvals for the Washington Parkway; Green Springs Dr. to I-15 project in the State of Utah.

The project proposes to extend Washington Parkway from North Green Springs Drive to I-15, Exit 13 to improve transportation mobility and provide an alternate collector route from I-15 to the Green Springs community in Washington City. The new proposed roadway pavement will be approximately 2.75 miles long with two travel lanes and shoulders for an approximate width of 32 feet. These improvements were identified in the Categorical Exclusion prepared for the project by UDOT. The project is included in UDOT's adopted 2019-2024 State Transportation Improvement Plan (STIP) as project number F-R499(326) and is scheduled for construction to begin in fiscal year 2019, being let as a design-bid-build contract. The project is also included in the Dixie Metropolitan Planning Organization's adopted 2015-2040 Regional Transportation Plan (RTP)—Amendment #2 (March 2018).

The actions by UDOT, and the laws under which such actions were taken, are described in the Categorical Exclusion (CE) for the project (Washington Parkway; Green Springs Dr. to I-15 in Washington County, Utah, Project No. F-R499(326)) approved on August 26, 2019 and other documents in the UDOT project records. The CE and other project records are available for review by contacting UDOT at the address provided above. This notice applies to the CE, the NHPA Section 106 review, the Section 4(f) determination, the Endangered Species Act determination, the Noise Assessment, and all other UDOT and federal agency decisions and other actions with respect to the project as of the issuance date of this notice and all laws under which such actions were taken, including but not limited to the following laws (including their implementing regulations):

1. General: National Environmental Policy Act [42 U.S.C. 4321-4351]; Federal-Aid Highway Act [23 U.S.C. 109 and 23 U.S.C. 128]; Map-21, the Moving Ahead for Progress in the 21st Century Act [Pub. L. 112-141].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536]; Fish and Wildlife Coordination Act [16 U.S.C. 661-667(d)]; Migratory Bird Treaty Act [16 U.S.C. 703-712].

5. Water: Section 404 of the Clean Water Act, 33 U.S.C. 1344; E.O. 11990, Protection of Wetlands; Section 402 of the Clean Water Act, 33 U.S.C. 1342.

6. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469(c)].

7. Hazardous Materials: Comprehensive Environmental Response, Compensation, and Liability Act [42 U.S.C. 9601-9675]; Superfund Amendments and Reauthorization Act of 1986 ; Resource Conservation and Recovery Act [42 U.S.C. 6901-6992(k)].

8. Noise: Federal-Aid Highway Act of 1970, Public Law 91-605 [84 Stat. 1713].

9. Executive Orders: E.O. 11593 Protection and Enhancement of Cultural Resources; E.O. 13287 Preserve America; E.O. 12898, Federal Actions to Address Environmental Justice and Low-Income Populations.

(Catalog of Federal Domestic Assistance Program Number 20.205, Highway Planning and Construction. The regulations implementing Executive Order 12372 regarding intergovernmental consultation on Federal programs and activities apply to this program.)

Authority: 23 U.S.C. 139 (l)(1).

Issued on: September 16, 2019.
Brigitte Mandel,
Assistant Division Administrator, Federal Highway Administration, Salt Lake City, Utah.

[FR Doc. 2019-20545 Filed 9-20-19; 8:45 am]

BILLING CODE 4910-RY-P